DEPARTMENT OF ENERGY

Federal Energy Regulatory Commission

[Project No. 3090-008 Vermont]

Village of Lyndonville Electric Department; Notice of Availability of Environmental Assessment

August 1, 2002.

In accordance with the National Environmental Policy Act of 1969 and the Federal Energy Regulatory Commission's (Commission) regulations, 18 CFR Part 380 (Order No. 486, 52 F.R. 47897), the Office of Energy Projects has reviewed the application for license for the Vail Hydroelectric Project and has prepared an Environmental Assessment (EA) for the project. The project is located on the Passumpsic River, in the Village of Lyndonville, within the county of Caledonia, Vermont. No federal lands or facilities are occupied or used by the project.

The EA contains the staff's analysis of the potential environmental impacts of the project and concludes that licensing the project, with appropriate environmental protective measures, would not constitute a major federal action that would significantly affect the quality of the human environment.

A copy of the EA is on file with the Commission and is available for public inspection. The EA may also be viewed on the web at http://www.ferc.gov using the “RIMS” link—select “Docket #” and follow the instructions (call 202-208-2222 for assistance).

Any comments should be filed within 30 days from the date of this notice and should be addressed to Magalie R. Salas, Secretary, Federal Energy Regulatory Commission, 888 First Street, NE, Washington, DC 20426. Please affix Project No. 3090-008 to all comments. Comments may be filed electronically via the Internet in lieu of paper. See 18 CFR 385.2001(a)(1)(iii) and the instructions on the Commission's web site under the “e-Filing” link. The Commission strongly encourages electronic filings.

For further information, contact Timothy Looney at (202) 219-2852.

Linwood A. Watson, Jr.,
Deputy Secretary.

[FR Doc. 02-19921 Filed 8-6-02; 8:45 am]

BILLING CODE 6717-01-P